DEPARTMENT OF COMMERCE

International Trade Administration

[A-570-053]

Certain Aluminum Foil From the People's Republic of China: Final Results of Antidumping Duty Administrative Review; Final Determination of No Shipments; 2017-2019

AGENCY: Enforcement and Compliance, International Trade Administration, Department of Commerce.

SUMMARY: The Department of Commerce (Commerce) has analyzed the case and rebuttal briefs submitted by interested parties and finds that exporters of certain aluminum foil (aluminum foil) from the People's Republic of China (China) sold subject merchandise in the United States at prices below normal value during the period of review (POR) November 2, 2017, through March 31, 2019.

DATES: Applicable February 25, 2021.

FOR FURTHER INFORMATION CONTACT: Chelsey Simonovich or Michael J. Heaney, AD/CVD Operations, Office VI, Enforcement and Compliance, International Trade Administration, U.S. Department of Commerce, 1401 Constitution Avenue NW, Washington, DC 20230; telephone: at (202) 482-1979 or (202) 482-4475, respectively.

SUPPLEMENTARY INFORMATION:

Background

Commerce published the Preliminary Results of the administrative review of the antidumping duty order on June 24, 2020.¹ The administrative review covers two mandatory respondents: (1) Jiangsu Zhongji Lamination Materials Co., (HK) Ltd.; Jiangsu Zhongji Lamination Materials Stock Co., Ltd.; Jiangsu Zhongji Lamination Materials Co., Ltd.; and Jiangsu Huafeng Aluminum Industry Co., Ltd. (collectively, Zhongji),² and (2) Xiamen Xiashun Aluminum Foil Co., Ltd. (Xiashun). The administrative review also covers ten other companies that were not selected for individual examination.

¹ See Certain Aluminum Foil from the People's Republic of China: Preliminary Results of Antidumping Duty Administrative Review, Preliminary Determination of No Shipments, and Partial Rescission; 2017-2019, 85 FR 37829 (June 24, 2020) (Preliminary Results), and accompanying Preliminary Decision Memorandum.

² In the less-than-fair-value (LTFV) investigation, we collapsed Jiangsu Zhongji Lamination Materials Co., (HK) Ltd.; Jiangsu Zhongji Lamination Materials Stock Co., Ltd.; Jiangsu Zhongji Lamination Materials Co., Ltd.; and Jiangsu Huafeng Aluminum Industry Co., Ltd. as a single entity. See Antidumping Duty Investigation of Certain Aluminum Foil from the People's Republic of China: Affirmative Preliminary Determination of Sales at Less-Than Fair Value and Postponement of Final Determination, 82 FR 50858 (November 2, 2017), and accompanying Preliminary Decision Memorandum at 16-18, unchanged in Certain Aluminum Foil from the People's Republic of China: Final Determination of Sales at Less Than Fair Value, 83 FR 9282 (March 5, 2018). We find that record evidence in this administrative review supports continuing to treat these companies as a single entity.

On July 21, 2020, Commerce tolled all deadlines for administrative reviews by 60 days.³ On December 15, 2020, Commerce extended the deadline for the final results of this administrative review by 60 days.⁴ The deadline for the final results of this review is now February 19, 2021. For a complete description of the events that occurred since the Preliminary Results, see the Issues and Decision Memorandum.⁵

³ See Memorandum, “Tolling of Deadlines for Antidumping and Countervailing Duty Administrative Reviews,” dated July 21, 2020.

⁴ See Memorandum, “Certain Aluminum Foil from the People's Republic of China: Extension of Deadline for Final Results of Antidumping Duty Administrative Review,” dated December 15, 2020.

⁵ See Memorandum, “Issues and Decision Memorandum for the Final Results of the Antidumping Duty Administrative Review of Certain Aluminum Foil from the People's Republic of China; 2017-2019,” dated concurrently with, and hereby adopted by, this notice (Issues and Decision Memorandum).

Scope of the Order ⁶

⁶ See Certain Aluminum Foil from the People's Republic of China: Amended Final Determination of Sales at Less Than Fair Value and Antidumping Duty Order, 83 FR 17362 (April 19, 2018) (Order).

The merchandise covered by this administrative review is aluminum foil from China. For a full description of the scope, see the Issues and Decision Memorandum.

Analysis of Comments Received

All issues raised in interested parties' briefs are addressed in the Issues and Decision Memorandum. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html. The signed and the electronic versions of the Issues and Decision Memorandum are identical in content.

Final Determination of No Shipments

In the Preliminary Results, we found no evidence calling into question the no-shipment claims of Jiangsu Dingsheng New Materials Joint-Stock Co., Ltd. No parties commented on this preliminary decision. For the final results of this review, we continue to find that Jiangsu Dingsheng New Materials Joint-Stock Co., Ltd. had no shipments of subject merchandise to the United States during the POR.

Changes Since the Preliminary Results

Based on a review of the record and comments received from interested parties, Commerce has made two changes to the Preliminary Results. First, for Zhongji, we have revised our calculation of ash/dross to account for the metal content of the ash/dross. Second, we have revised our calculation of an adverse inference with regard to Xiashun. For a more detailed discussion of these changes, see the Final Analysis Memoranda for Zhongji and Xiashun.⁷

⁷ See Memorandum, “Final Analysis Memorandum for Zhongji,” dated concurrently with this memorandum; see also Memorandum, “Final Analysis Memorandum for Xiashun,” dated concurrently with this memorandum.

Separate Rate

In the Preliminary Results, we found that information placed on the record by Zhongji; Xiashun; Alcha International Holdings Limited; Dingsheng Aluminum Industries Hong Kong Trading Co.; Granges Aluminum (Shanghai) Co., Ltd; Hangzhou Dingsheng Import & Export Co., Ltd.; Hunan Suntown Marketing Limited; Jiangsu Alcha Aluminum Co., Ltd.; Shanghai Shenyan Packaging Materials Co.; SNTO International Trade Limited; and Suzhou Manakin Aluminum Processing Technology Co., Ltd. demonstrates that these entities are entitled to separate rate status.⁸ We received no comments or arguments since the issuance of the Preliminary Results that provide a basis for reconsideration of these determinations. Therefore, for these final results, we continue to find that the companies listed in the table for the “final results of the review” section of this notice are eligible for a separate rate. For a more detailed discussion of this issue, see Issues and Decision Memorandum.

⁸ See Preliminary Results and accompanying Preliminary Decision Memorandum at 7-10.

Final Results of the Review

Commerce determines that the following weighted-average dumping margins exist for the period November 2, 2017, through March 31, 2019:

Exporter | Weighted- average margin (percent)
Jiangsu Zhongji Lamination Materials Co., (HK) Ltd./Jiangsu Zhongji Lamination Materials Stock Co., Ltd./Jiangsu Zhongji Lamination Materials Co., Ltd./Jiangsu Huafeng Aluminum Industry Co., Ltd | 23.62
Xiamen Xiashun Aluminum Foil Co., Ltd | 47.57
Alcha International Holdings Limited | 35.60
Dingsheng Aluminum Industries Hong Kong Trading Co | 35.60
Granges Aluminum (Shanghai) Co., Ltd | 35.60
Hangzhou Dingsheng Import & Export Co., Ltd | 35.60
Hunan Suntown Marketing Limited | 35.60
Jiangsu Alcha Aluminum Co., Ltd | 35.60
Shanghai Shenyan Packaging Materials Co | 35.60
SNTO International Trade Limited | 35.60
Suzhou Manakin Aluminum Processing Technology Co., Ltd | 35.60

For the respondents which are eligible for a separate rate, but were not selected for individual examination in this administrative review, we have assigned a margin based on the average of the weighted average dumping margins calculated for Zhongji and Xiashun, consistent with section 735(c)(3)(A) of the Act.

China-Wide Entity

Commerce's policy regarding conditional review of the China-wide entity applies to this administrative review.⁹ Under this policy, the China-wide entity will not be under review unless a party specifically requests, or Commerce self-initiates, a review of the entity. Because no party requested a review of the China-wide entity in this review, the entity is not under review and the entity's rate (i.e., 105.80 percent) is not subject to change.¹⁰

⁹ See Antidumping Proceedings: Announcement of Change in Department Practice for Respondent Selection in Antidumping Duty Proceedings and Conditional Review of the Nonmarket Economy Entity in NME Antidumping Duty Proceedings, 78 FR 65963 (November 4, 2013).

¹⁰ See Order, 83 FR at 17363.

Assessment Rates

Commerce shall determine, and U.S. Customs and Border Protection (CBP) shall assess, antidumping duties on all appropriate entries of subject merchandise in accordance with section 751(a)(2)(C) of the Act and 19 CFR 351.212(b). In accordance with 19 CFR 351.212(b)(1), we have calculated importer-specific assessment rates for merchandise subject to this review. We calculated importer (or customer)-specific assessment rates for merchandise subject to this review on a per-unit (i.e., per-kilogram) basis. Specifically, we calculated a per-unit assessment rate by aggregating the antidumping duties due for all U.S. sales to that importer (or customer) and divided this amount by the total quantity sold to that importer (or customer) during the POR. To determine whether the duty assessment rates are de minimis, in accordance with the requirement set forth in 19 CFR 351.106(c)(2), we calculate importer- (or customer-) specific ad valorem ratios based on the estimated entered value. If an importer (or customer)-specific assessment rate is de minimis (i.e., less than 0.50 percent), Commerce will instruct CBP to liquidate that importer's (or customer's) entries of subject merchandise without regard to antidumping duties.

Consistent with its recent notice,¹¹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹¹ See Notice of Discontinuation of Policy to Issue Liquidation Instructions After 15 Days in Applicable Antidumping and Countervailing Duty Administrative Proceedings, 86 FR 3995 (January 15, 2021).

Cash Deposit Requirements

The following cash deposit requirements will be effective upon publication of the final results of this administrative review for shipments of the subject merchandise from China entered, or withdrawn from warehouse, for consumption on or after the publication date, as provided by section 751(a)(2)(C) of the Act: (1) For Xiashun and Zhongji and for each of the 10 companies identified above as eligible for a separate rate, the cash deposit rate will be equal to the weighted-average dumping margin established in the final results of this review; (2) for previously investigated or reviewed Chinese and non-Chinese exporters not listed above that have received a separate rate in a prior segment of this proceeding, the cash deposit rate will continue to be the existing exporter-specific cash deposit rate published for the completed segment of the most recent period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Interested Parties

We are issuing and publishing these final results of administrative review in accordance with sections 751(a)(1) and 777(i)(1) of the Act and 19 CFR 351.221(b)(5) and 19 CFR 351.213(h)(1).

Dated: February 19, 2021.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Proper Sources for Certain Zhongji Surrogate Values

Comment 2: Allocation of Factory Overhead Expenses

Comment 3: Modification of Liquidation Instructions for Certain Zhongji Sales

Comment 4: Zhongji Double Remedies Adjustment

Comment 5: Application of an Adverse Inference to Xiashun for 14 Non-Metal Inputs

Comment 6: Xiashun Run-Around Scrap

Comment 7: Xiashun Market Economy Inputs

Comment 8: Separate Rate Assigned to Non-Examined Companies

VI. Recommendation

[FR Doc. 2021-03838 Filed 2-24-21; 8:45 am]

BILLING CODE 3510-DS-P